DEPARTMENT OF AGRICULTURE

Forest Service

DEPARTMENT OF THE INTERIOR

Bureau of Land Management

Revised Notice of Meetings of the Santa Rosa and San Jacinto Mountains National Monument Advisory Committee

AGENCIES: Forest Service, U.S. Department of Agriculture; and Bureau of Land Management, U.S. Department of the Interior.

ACTION: Revised notice of meetings of the Santa Rosa and San Jacinto Mountains National Monument Advisory Committee for 2007 and 2008.

SUMMARY: The Santa Rosa and San Jacinto Mountains National Monument Advisory Committee (Monument Advisory Committee) will meet as indicated below.

DATES: • September 8, 2007.

• December 1, 2007.

• March 1, 2008.

• June 7, 2008.

• September 6, 2008.

• December 6, 2008.

All meetings of the Monument Advisory Committee will start at 9 a.m. and conclude at 1 p.m.

ADDRESSES: Meetings of the Monument Advisory Committee will be held at the County of Riverside Permit Assistance Center, Second Floor Conference Room, 38686 El Cerrito Road, Palm Desert, California.

FOR FURTHER INFORMATION CONTACT: Jim Foote, Monument Manager, Santa Rosa and San Jacinto Mountains National Monument, c/o Bureau of Land Management, P.O. Box 581260, North Palm Springs, CA 92258; phone (760) 251-4800.

SUPPLEMENTARY INFORMATION: This notice identifies a change in location for meetings of the Monument Advisory Committee as published in the Federal Register on April 24, 2007 (72 FR 20321).

Meetings of the Monument Advisory Committee focus on implementation of the Santa Rosa and San Jacinto Mountains National Monument Management Plan. A public comment period when members of the public may address the Monument Advisory Committee will occur at 11 a.m. during each meeting. Written comments may be sent to the Monument Manager at the address listed above. All meetings are open to the public; however, transportation, lodging, and meals are the responsibility of the participating public.

Dated: August 10, 2007.
Jim Foote,
Monument Manager, Santa Rosa and San Jacinto Mountains National Monument.

[FR Doc. 07-4136 Filed 8-22-07; 8:45 am]

BILLING CODE 3410-11-P